DEPARTMENT OF COMMERCE

National Oceanic and Atmospheric Administration

50 CFR Part 660

[Docket No. 051014263-6028-03; I.D. 080106A]

Fisheries Off West Coast States; Pacific Coast Groundfish Fishery; End of the Pacific Whiting Primary Season for the Shore-based Sector and the Resumption of Trip Limits

AGENCY: National Marine Fisheries Service (NMFS), National Oceanic and Atmospheric Administration (NOAA), Commerce.

ACTION: Temporary rule; request for comments.

SUMMARY: NMFS announces the end of the 2006 primary season for the Pacific whiting (whiting) shore-based sector at 6 p.m. local time (l.t.) August 2, 2006, because the allocation is projected to be reached. This action is intended to keep the harvest of whiting at the 2006 allocation levels.

DATES: Effective from 6 p.m. l.t. August 2, 2006, until January 1, 2007.

Comments will be accepted through August 22, 2006.

ADDRESSES: You may submit comments, identified by [docket number and/or RIN number], by any of the following methods:

• E-mail:. WhitingSBclosure2006.nwr@noaa.gov Include [docket number and/or RIN number] in the subject line of the message.

• Federal eRulemaking Portal: http://www.regulations.gov. Follow the instructions for submitting comments.

• Fax: 206-526-6736, Attn: Becky Renko.

• Mail: D. Robert Lohn, Administrator, Northwest Region, NMFS, 7600 Sand Point Way NE, Seattle, WA 98115-0070, Attn: Becky Renko.

FOR FURTHER INFORMATION CONTACT: Becky Renko at 206-526-6110.

SUPPLEMENTARY INFORMATION: This action is authorized by regulations implementing the Pacific Coast Groundfish Fishery Management Plan (FMP), which governs the groundfish fishery off Washington, Oregon, and California.

The regulations at 50 CFR 660.323(a) establish separate allocations for the catcher/processor, mothership, and shore-based sectors of the whiting fishery. For 2006, the 232,069 mt commercial harvest guideline for whiting is divided with the catcher/processor sector receiving 78,903 mt (34 percent); the mothership sector receiving 55,696 mt (24 percent); and the shore-based sector receiving 97,469 mt (42 percent).

Regulations at 50 CFR 660.373(b) describe the primary season for each sector. The primary season for the shore-based sector is the period(s) when the large-scale target fishery is conducted, and when “per trip” limits are not in effect. Before and after the primary season, per-trip limits are in effect for whiting.

The best available information on July 31, 2006, indicates that 81,159 mt had been taken through July 27, 2006, 2006, and that the 97,469 mt shore-based allocation will be reached by August 2, 2006. This Federal Register document announces that the primary season for the shore-based sector ends on August 2, 2006, and a 10,000-lb (4,536-kg) trip limit is imposed. Per-trip limits are for vessels using large or small footrope trawl gear and are intended to accommodate small bait and fresh fish markets, and bycatch in other fisheries. To minimize incidental catch of Chinook salmon by vessels fishing shoreward of the 100-fm (183-m) contour in the Eureka area, at any time during a fishing trip, a limit of 10,000 lb (4,536 kg) of whiting is in effect year-round, except when landings of whiting are prohibited.

NMFS Action

For the reasons stated above, and in accordance with the regulations at 50 CFR 660.323(b)(3), NMFS herein announces:

Effective 6 p.m. l.t. August 2, 2006, no more than 10,000 lb (4,536 kg) of whiting may be taken and retained, possessed or landed by any vessel participating in the shore-based sector of the whiting fishery, unless otherwise announced in the Federal Register. If a vessel fishes shoreward of the 100-fm (183-m) contour in the Eureka area (43° - 40°30′ N. lat.) at any time during a fishing trip, the 10,000-lb (4,536-kg) trip limit applies, as announced in the annual management measures at paragraph IV, B (3)(c)(ii), except when the whiting fishery is closed.

Classification

This action is authorized by the regulations implementing the FMP. The determination to take this action is based on the most recent data available. The Assistant Administrator for fisheries, NMFS, finds good cause to waive the requirement to provide prior notice and opportunity for comment on this action pursuant to 5 U.S.C. 553(b)(B), because providing prior notice and opportunity would be impracticable. It would be impracticable because if this closure were delayed in order to provide notice and comment, the fishery would be expected to greatly exceed the sector allocation. This would either result in the entire whiting optimum yield being exceeded, or in the allocations for the other sectors being reduced. Therefore, good cause also exists to waive the 30-day delay in effectiveness requirement of 5 U.S.C. 553 (d)(3). The aggregate data upon which the determination is based are available for public inspection at the Office of the Regional Administrator (see ADDRESSES) during business hours.

This action is taken under the authority of 50 CFR 660.323(b)(3) and is exempt from review under Executive Order 12866.

Authority: 16 U.S.C. 1801 et seq.

Dated: August 1, 2006.
James P. Burgess,
Acting Director, Office of Sustainable Fisheries , National Marine Fisheries Service.

[FR Doc. 06-6737 Filed 8-2-06; 12:58 pm]

BILLING CODE 3510-22-S